DEPARTMENT OF ENERGY

Federal Energy Regulatory Commission

[Docket No. RP00-429-000]

Kansas Pipeline Company; Notice of Revised Tariff Filing

August 9, 2000.

Take notice that on August 1, 2000, Kansas Pipeline Company (KPC) tendered for filing revised tariff sheets, to be effective March 26, 2000. The revised tariff sheets, listed below, reflect the lifting of the price cap for short-term capacity release transactions. The revised tariff sheets are:

Fourth Revised Sheet No. 15

Fourth Revised Sheet No. 21

KPC states that a copy of this filing is available for public inspection during regular business hours at KPC's offices at 8325 Lenexa Drive, Lenexa, Kansas 66214. The contact person for this filing is Donald Whittington ((913) 888-7139). In addition, copies of this filing have been served on all Kansas Pipeline Company customers and state commissions involved in this proceeding.

Any person desiring to be heard or to protest said filing should file a motion to intervene or a protest with the Federal Energy Regulatory Commission, 888 First Street, N.E., Washington, D.C. 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-20627 Filed 8-14-00; 8:45 am]

BILLING CODE 6717-01-M